DEPARTMENT OF HEALTH AND HUMAN SERVICES

Administration for Children and Families

Proposed Information Collection Activity; Testing Identified Elements for Success in Fatherhood Programs (New Collection)

AGENCY: Office of Planning, Research, and Evaluation, Administration for Children and Families, United States Department of Health and Human Services.

ACTION: Request for public comments.

SUMMARY: The Administration for Children and Families (ACF) Office of Planning, Research, and Evaluation (OPRE) launched the Testing Identified Elements for Success in Fatherhood Programs (Fatherhood TIES) project in 2022. Using a mix of research methods, this study will identify and test the “core components” of fatherhood programs in any effort to identify which core components are most effective at improving the lives of fathers who participate in fatherhood programs and their children. The study will ultimately include an implementation and an impact study.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The proposed information collection request is to obtain consent to participate in the study, collect additional baseline information from program participants, and initial implementation study data. A future request will cover the remaining data collection materials associated with the impact and implementation studies. Core components are the essential functions, principles, and elements that are judged as being necessary to produce positive outcomes. Fatherhood programs usually offer workshops and case management services for fathers to provide, for example, parenting strategies to strengthen their relationships with their children, help finding a steady job, skills to enhance their relationships, and support dealing with other life or family challenges they might experience. Up to five Fatherhood Family—focused, Interconnected, Resilient, and Essential (Fatherhood FIRE) grant recipients will partner with the Fatherhood TIES study team to participate in an implementation and impact study. The implementation study will examine how the core components are implemented and what fathers think of them. The impact study will rigorously evaluate whether promising core components bring about positive outcomes for fathers and their families which may include understanding effects of program engagement, employment and earnings, father-child relationship quality and co-parenting relationship quality. This notice is specific to data collection activities needed to collect consent of participants to enter the study, collect additional baseline information beyond what they already provide (Healthy Marriage and Responsible Fatherhood Performance Measures and Additional Data Collection; OMB #: 0970-0566), and collect some implementation study data. A future notice will provide information about additional data collection activities for the impact and implementation studies.

Respondents: Fathers enrolled in the Fatherhood TIES study, and program staff involved in supporting and implementing the Fatherhood TIES study.

Annual Burden Estimates
Instrument | Number of respondents (total over request period) | Number of responses per respondent (total over request period) | Avg. burden per response (in hours) | Total burden (in hours) | Annual burden (in hours)
Consent for those over 18 years old (staff) | 20 | 188 | .167 | 628 | 314
Additional Baseline Data Collection | 3,000 | 1 | .33 | 990 | 495
Program Information and Management Tool (TIES Table) | 20 | 80 | .083 | 133 | 67
Observation Form | 25 | 12 | .75 | 225 | 113
Reflection (staff) | 37 | 17 | .25 | 157 | 79
Reflection (participant) | 3,000 | 1 | .25 | 750 | 375
Estimated Annual Burden Total |  |  |  |  | 1,443

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the FY 2017 Consolidated Appropriations Act, 2017 (Pub. L. 115-31).

Mary B. Jones,
ACF/OPRE Certifying Officer.

[FR Doc. 2023-15694 Filed 7-24-23; 8:45 am]

BILLING CODE 4184-73-P